DEPARTMENT OF LABOR

Bureau of Labor Statistics

Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed new collection of the Survey of Respirator Use and Practices. A copy of the proposed information collection request (ICR) can be obtained by contacting the individual listed in the ADDRESSES section of this notice.

DATES: Written comments must be submitted to the office listed in the ADDRESSES section of this notice on or before December 26, 2000.

ADDRESSES: Send comments to Ausie B. Grigg, Jr., BLS Clearance Officer, Division of Management Systems, Bureau of Labor Statistics, Room 3255, 2 Massachusetts Avenue, NE., Washington, DC 20212, telephone number 202-691-7628 (this is not a toll free number).

FOR FURTHER INFORMATION CONTACT: Ausie B. Grigg, Jr., BLS Clearance Officer, telephone number 202-691-7628. (See ADDRESSES section.)

SUPPLEMENTARY INFORMATION:

I. Background

The National Institute for Occupational Safety and Health (NIOSH) and the Bureau of Labor Statistics (BLS), U.S. Department of Labor (DOL) have agreed to conduct a survey of United States employers regarding the use of respiratory protective devices. Employers are required to provide respirators to workers when such equipment is necessary to protect the health of the employee. The employer has the responsibility to provide respirators that are applicable and suitable for the purpose intended, and to establish and maintain a respiratory protection program.

The NIOSH respirator certification and research program must assure, in the best manner reasonably possible, that users are provided with correct and needed products and information so that they can be properly protected when using respirators. However, there are no detailed estimates of current respirator usage. The NIOSH respirator certification program operates under the assumption that all respirator users are using respirators in a complete respirator program. On the other hand, sources such as respirator manufacturers, state that users often wear respirators with little training and without the benefit of a respirator program. As a result, there is a pressing need to gather accurate and up-to-date information regarding respirator use in the workplace so that the NIOSH respirator certification and research program can assure that workers have needed products and are properly informed and protected.

II. Desired Focus of Comments

The Bureau of Labor Statistics is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

OMB clearance is being sought for the Survey of Respirator Use and Practices.

Type of Review: New Collection.

Agency: Bureau of Labor Statistics.

Title: Survey of Respirator Use and Practices.

OMB Number: 1220-New.

Affected Public: Business or other for-profit; Not-for-profit institutions; Farms.

Total Respondents: 40,000.

Frequency: One-time; Non-recurring.

Average Time Per Response: The weighted average per response is 30 minutes. Ninety (90) minutes for establishments with respirator use. Fifteen (15) minutes for establishments with no respirator use.

Estimated Total Burden Hours: 20,000 hours.

Total Burden Cost (capital/startup): $0.

Total Burden Cost (operating/maintenance): $0.

Comments submitted in response to this notice will be summarized and/or included in the request for Office of Management and Budget approval of the information collection request; they also will become a matter of public record.

Signed at Washington, D.C., this 20th day of October 2000.
Karen A. Krein,
Acting Chief, Division of Management Systems, Bureau of Labor Statistics.

[FR Doc. 00-27667 Filed 10-26-00; 8:45 am]

BILLING CODE 4510-24-P